DEPARTMENT OF STATE

22 CFR Part 34

[Public Notice: 8791]

RIN 1400-AD60

Debt Collection

AGENCY: Department of State.

ACTION: Final rule; correction.

SUMMARY: The Department of State (hereinafter, “State” or “the Department”) is publishing a correction to a final rule that amended State's debt collection regulations.

DATES: This rule will become effective on July 11, 2014.

FOR FURTHER INFORMATION CONTACT: Alice Kottmyer, Office of the Legal Adviser, United States Department of State; phone: (202) 647-2199; email: KottmyerAM@state.gov.

SUPPLEMENTARY INFORMATION: As part of the June 20, 2014 Federal Register (79 FR 35282) final rule amendatory text, the Department erroneously removed “22 CFR 34.7(a)(7)”, which does not exist. The Department's intent, however, was to remove 22 CFR 34.10(a)(7), for the reasons explained in the prior document. This document corrects that error.

List of Subjects in 22 CFR Part 34

Administrative practice and procedure, Claims, Debts, Garnishment of wages, Government employee, Hearing and appeal procedures, Pay administration, Salaries, Wages.

For the reasons stated in the preamble, 22 CFR part 34 is amended as follows:

PART 34—DEBT COLLECTION

1. The authority citation for part 34 continues to read as follows:

Authority: 31 U.S.C. 3701-3719; 5 U.S.C. 5514; 31 CFR part 285; 31 CFR parts 900-904; 5 CFR part 550, subpart K.

§ 34.10 [Amended]

2. Remove paragraph (a)(7) from § 34.10.

Dated: July 3, 2014.
Janet M. Freer,
Director, Office of Directives Management, Department of State.

[FR Doc. 2014-16303 Filed 7-10-14; 8:45 am]

BILLING CODE 4710-37-P